DEPARTMENT OF DEFENSE

Department of the Army; Corps of Engineers

Grant of Partially Exclusive or Exclusive Licenses

AGENCY: Department of the Army, U.S. Corps of Engineers, DoD.

ACTION: Notice.

SUMMARY: The Department of the Army, U.S. Army Corps of Engineers, announces the general availability of partially exclusive licenses under the following pending patents listed under SUPPLEMENTARY INFORMATION. Any license granted shall comply with 35 U.S.C. 209 and 37 CFR Part 404.

ADDRESSES: Humphreys Engineer Center Support Activity, Office of Counsel, 7701 Telegraph Road, Alexandria, VA 22315-3860.

dates: Applications for an exclusive or partially exclusive license may be submitted at any time from the date of this notice. However, no exclusive or partially exclusive license shall be granted until January 17, 2006.

FOR FURTHER INFORMATION CONTACT: Patricia L. Howland (703) 428-6672.

SUPPLEMENTARY INFORMATION: 1. Title: Corrosion-Resistant Structure Incorporating Zinc or Zinc-Alloy Plated Lead or Lead-Alloy Wires and Methods of Making Same. Structure incorporating lead is fabricated from specially prepared components such that mobility of the lead is impeded when the structure is exposed to an unprotected environment such as weathering outdoors or saltwater. In a preferred embodiment, a bullet or bullet core is swaged from a number of bunched electroplated fine lead or lead-alloy wires placed in a die. The lead or lead-alloy wires may be fabricated from lead or lead-alloy wool. The lead alloy may comprise zinc and antimony. The electroplating process plates zinc on the fine wires and may plate a zinc alloy such as zinc-aluminum. The plated surface may be coated with a corrosion resistant coating such as molybdenum phosphate. In addition to bullets and bullet cores, fishing weights, lead shielding, counterweights, ballast, and other lead containing structure may be fabricated or treated using methods and materials of the present invention.

Serial No.: 10/462,707.

Date: 06/17/2003.

2. Title: Deconvolution Technique Employing Hermite Functions. A procedure generates deconvolution algorithms by first solving a general convolution integral exactly. Results are transformed, yielding a linear relationship between actual (undistorted) and captured (distorted) data. Hermite functions and the Fourier-Hermite series represent the two data classes. It circumvents the need for solving incompatible systems of linear equations derived from “numerically discretizing” convolution integrals, i.e., the convolution integral is not evaluated. It is execute by exploiting a mathematical coincidence that the most common Point spread Function (PSF) used to characterize a device is a Gaussian functions that is also a Fourier-Hermite functions of zero order. By expanding the undistorted data in a Fourier-Hermite series, the convolution integral becomes analytically integrable. It also avoids an inherent problem or dividing by decimal “noisy data” values in conventional “combined deconvolution” in that division is by a function of the PS parameters yielding divisors generally greater than one.

Serial No.: 10/658,285.

Date: 09/10/2003.

3. Title: Automated Resource Management System (ARMS™). The Automated Resource Management System (ARMS™) automates collection, integration, analysis, reporting and archiving of data in a variety of applications while insuring data accuracy and reliability not attainable conventionally. Applications include: environmental, safety, security, military, educational, emergency management, land use, fish and wildlife management, construction and maintenance of highways and waterways, mining, exploration, manufacturing, recreational management, urban restoration, and archaeological preservation. ARMS™ integrates a number of portable devices, employing digital technology and specialized software in these portable devices as well as analysis devices, such as PCs and servers. ARMS™ increases efficiency and reduces cost, while accurately and timely preserving and integrating information. It is useful for both post-processing and real-time reporting, analysis, and pro-active direction of ongoing investigations.

Serial No: 10/729,269.

Date: 12/8/2003.

4. Title: System Employing Wireless Means for Governing Operation of an Apparatus and Methods of use Therefor. A system employing principles of the present invention governs operation of an apparatus by an operator. An embodiment of the present invention comprises means for receiving at least one signal, portable means affixed to the operator for transmitting the signal, and means for inactivating or interrupting the operation of the apparatus should the operator be beyond a pre-specified distance from the controls of the apparatus. The means for inactivating communicates with both the means for receiving and the apparatus, while the means for transmitting sends the signal to the means for receiving during normal operation of the apparatus, e.g., with the operator physically present. Without the presence of the signal, operation of the apparatus is interrupted. One embodiment provides for an emergency override of the system to permit operation of the apparatus without the presence of the signal. Methods of using embodiments of the present invention are also provided.

Serial No: 10778,706.

Date: 02/11/2004.

5. Title: A Portable Nuclear Detector. A portable nuclear material detector generally includes a scintillating fiber radiation sensor, a light detector, a conditioning circuit, a frequency shift keying (FSK) circuit, a fast Fourier transform (FFT) circuit, an electronic controller, an amplitude spectral addition circuit, and an output devise. A high voltage direct current (HVDC) source is provided to excite the light detector, while a separate power supply may be provided to power the remaining components. Portability is facilitated by locating the components of the detector within a handheld-sized housing. When bombarded by gamma particles, the radiation sensor emits light, which is detected by the light detector and converted into electrical signals. These electrical signals are then conditioned and converted to spectral lines. The frequency of a give spectral line is associated with a particular radioactive isotope, while the cumulative amplitude of all spectral lines having a common frequency is indicative of the strength and location of the isotope. All or part of this information (identity, strength, director and distance) may be provided on the output device.

Serial No: 10/795,363.

Date: 03/9/2004.

6. Title: Modular Barrier System for Satisfying Needs Unique to a Specific User. Components and system for limiting access and egress. A properly scaled barrier of the present invention meets varied requirements for applications that include: security, safety, order, privacy and discipline. In one embodiment, pre-manufactured panels and connectors are delivered to a site that has been prepared for installation of the system. Local materials may be used for the panels in some cases. The panels and connectors can be assembled quickly by unskilled labor and, in some embodiments, the barrier just as quickly dismantled or repaired as necessary. One embodiment may be used as a temporary or emergency solution to access control while another may employ in-fill material to provide a permanent barrier. Another embodiment may be used in a residential setting, providing storage in some installations. In all embodiments, accessories for enhancing effectiveness may be installed on or within the barrier.

Serial No: 10/795,364.

Date: 03/9/2004.

7. Title: Measurement Device and Method. Apparatus for determining the thickness of a configuration having flat, parallel surfaces that are transparent, or nearly so, to pre-specified types of energy. Embodiments comprise a mechanism for illuminating a front surface with an energy source and mechanisms for measuring reflections of the illumination from a parallel back surface. The energy is contained in a spectrum of wavelengths, the energy being refracted in components at unique wavelengths, e.g., different colored light bands, and similarly reflected from the back surface. The measuring mechanisms, e.g., spectrometers, determine the relative lateral displacement between two spectral lines in the refracted and reflected beams to enable determination of thickness. Other characteristics of the material of the configuration may be ascertained, e.g., chemical composition is ascertained by measuring the intensity of responses at multiple wavelengths and comparing this to responses of known materials.

Serial No: 10/867,700.

Date: 06/16/2004.

8. Title: Condition Survey Inspection (KBCSI). A knowledge-based condition survey inspection (KBSCI) framework and procedure for use with an engineering management system (EMS) that tailors types of condition survey inspections (CSIs) and inspection intervals to empirically-established life cycles of component-sections. Embodiments of the invention facilitate proactive life cycle management, scheduling appropriate types of CSIs only when needed. The frequency and type of inspection is tailored to items important to a facility manager, such as the importance to the operation of individual component-sections and their individual life cycle, not the overall life cycle of a system or facility. Further, additional useful information is available from the data collected to maintain embodiments of the KBCSI framework so that meaningful “What-If” analysis may be performed in support of decision makers. By tailoring CSIs to needs rather than an arbitrary inspection schedule designed to only catch deficiencies, significant life cycle cost savings are realized.

Serial No: 10/886,609.

Date: 08/24/2004.

9. Title: Self-Healing Coatings Using Microcapsules. Self-healing coatings incorporate microcapsules of about 60-150 microns diameter that contain film formers and dust suppression compounds suitable for controlling spalling of lead dust, for example. In one embodiment, a primer paint is mixed with these microcapsules and applied by brushing or rolling. After the coating has cured, any physical compromise of the coating results in microcapsules bursting to release liquid that fills and seals the compromised volume. The microcapsule contents protect the underlying substrate from damage and repair some of the outer coating. In one application, embodiments of these self-healing coatings seal existing lead-based paint for suppression of lead dust. In another embodiment, microcapsules are provided separately to enhance commercially available products. For example, if a paint formulation is know a priori specifically configured microcapsules, packaged separately from the paint and designed for use with the paint formulation, are added to the paint just prior to application.

Serial No.: 10/923,890.

Date: 08/24/2004.

10. Title: Perlite Sorbents for Vapor Phase Metals and Metal Compounds. Perlite, particularly, perlite in powdered form, is employed to adsorb metals and metal compounds from a fluid flow. In select embodiments, the perlite is treated to expand its surface area and injected into a fluid stream, such as flue gas, held for a specific retention period, and removed for subsequent disposal. In other embodiments the perlite is provided in a fixed adsorption bed and the fluid flow permitted to pass through the bed until the perlite surface is exhausted. The perlite in the fixed bed is then replaced, with the exhausted perlite disposed of as appropriate. Treatment of perlite by boiling with sulfuric acid or suspending in a suspension of sulfur in carbon disulfide has been shown to significantly expand the surface area of perlite.

Serial No.: 10/931,232.

Date: 09/1/2004.

11. Title: Embedded Metal to Fluid Flow. A barrier to fluid passage is embedded within, instead of atop, porous material to retain the durability of the surface of the porous material. In one embodiment, a thin set mortar is applied to a concrete slab. A pleated metal foil is pressed into the wet mortar and a bond is established. The mortar is allowed to set and a top, or finish, section of concrete is then poured over the foil and finished conventionally. Provisions are made for sealing expansion joints in concrete slab floors and at the juncture of floor and wall. The foil may be provided in multiple layers to provide a mechanical bond via the concrete or mortar oozing through perforation or along pleats in each of the top and bottoms layers of the multi-layer foil, while providing at least one solid layer through which a fluid will not pass, at least in one direction.

Serial No.: 10/715,430

Date: 11/19/2003.

12. Title: Self-healing coatings incorporate microcapsules of about 60- 150 microns diameter that contain film formers and dust suppression compounds suitable for controlling spalling of lead dust, for example. In one embodiment, a primer paint is mixed with these microcapsules and applied by brushing or rolling. After the coating has cured, any physical compromise of the coating results in microcapsules bursting to release liquid that fills and seals the compromise volume. The microcapsule contents protect the underlying substrate from damage and repair some of the outer coating. In one application, embodiments of these self-healing coatings seal existing lead-based paint for suppression of lead dust. In another embodiment, microcapsules are provided separately to enhance commercially available products. For example, if a paint formulation is known a priori, specifically configured microcapsules, packaged separately from the paint and designed for use with the paint formulation, are added to the paint just prior to application.

Serial No.: 10/923,890.

Date: 08/24/2004.

13. Title: Perlite, particularly, perlite in powdered form, is employed to absorb metals and metal compounds from a fluid flow. In select embodiments, the perlite is treated to expand its surface area and injected into a fluid stream, such as flue gas, held for a specific retention period, and removed for subsequent disposal. In other embodiments the perlite is provided in a fixed adsorption bed and the fluid flow permitted to pass through the bed until the perlite surface is exhausted. The perlite in the fixed bed is then replaced, with the exhausted perlite disposed of as appropriate. Treatment of perlite by boiling with sulfuric acid or suspending in a suspension of sulfur in carbon disulfide has been shown to significantly expand the surface area of perlite.

Serial No.: 10/931,232

Date: 09/01/2004.

14. Title: An apparatus for non-destructively testing the response of a specimen to temperature change. An embodiment temperature cycles a specimen, such as a wet mortar beam dynamically measuring change in dimension and the temperature of the specimen during the cycle. Among other elements, the apparatus employs an accelerometer, a thermistor, a thermocouple, a temperature control, linear variable differential transducer (LVDTs), an FET device, a data logger and a hat tape controller. A typically cycle involves using liquid nitrogen to reduce the temperature in an insulated test chamber from ambient to less than −60° C and returning to ambient by dispersing the nitrogen with a source of ambient air. Further, in select embodiments, the apparatus measures fundamental frequencies induced by a micro-hammer as measured traversely along a dimension of a specimen during the cooling-warming cycle. Also provided is a method for testing specimens using devices representative of embodiments of the present invention.

Serial No.: 10/941,958.

Date: 09/16/2004.

15. Title: A backstop for decelerating and trapping projectiles generally includes a support structure having an inclined surface and a projectile trapping medium disposed on the inclined surface. The projectile trapping medium may be either a resilient granular ballistic medium or a combination of a ballistic medium with a hydrated super absorbent polymer (SAP) gel. Preferably, the support structure is made of a shock absorbing, foamed, fiber-reinforced concrete, such as SACON®. In embodiments, the support structure also includes an enclosure. Additives may also be mixed into the projectile trapping medium to control alkalinity and prevent leaching of heavy metals.

Serial No.: 10/979,834.

Date: 11/03/2004.

16. Title: An unobtrusive on-grade barrier is provided. One embodiment comprises a concrete-lined trench over which a biased hinged plate is affixed to an end wall of the trench. The biased hinge holds the free end of the plate against a tab affixed to the other end wall, assuring the plate does not rise above grade. The plate is supported for vehicle passage by a sliding mechanism energized by an actuator controlled by a controller that may be automated or operated by security personnel. The barrier may be configured so that vehicles may approach from either end. Upon authorizing access to the driver, the vehicle is permitted to pass over the supported plate. If the driver is not authorized access, the support is slid out of the way and any vehicle attempting to pass slides into the trench. Means for clearing the trench of a trapped vehicle are provided in select embodiments.

Serial No.: 10/979,852.

Date: 11/03/2004.

17. Title: A dynamic pressure testing or calibration system packaged as a portable unit for characterizing pressure sensors, such as transducers. Embodiments are packaged for carry on the body, are batter operated, compatible with existing transducer mounts, and quickly learned and easily used by a single operator. The system supplies a pre-specified impulse (pressure pulse) of fluid, preferably a benign gas, such as air, or an inert gas such as helium, or nitrogen. In select embodiments, the gas pulse has a fast rise time and its amplitude may be varied over a pre-specified dynamic range. For example, the rise time may emulate that of an impulse created during an explosion by a resultant pressure wave, i.e., less than 100 microseconds. Embodiments also incorporate a data acquisition capability that accurately captures and records both the supplied impulse and the response of the sensor under test.

Serial No.: 10/991,219.

Date: 11/18/2004.

18. Title: A barrier to fluid passage is embedded within, instead of atop, porous material to retain the durability of the surface of the porous material. In one embodiment, a thin set mortar is applied to a concrete slab. A pleated metal foil is pressed into the wet mortar and a bond is established. The mortar is allowed to set and a top, or finish, section of concrete is then poured over the foil and finished conventionally. Provisions are made for sealing expansion joints in concrete slab floors and at the juncture of floor and wall. The foil may be provided in multiple layers to provide a mechanical bond via the concrete or mortar oozing through perforations or along pleats in each of the top and bottom layers of the multi-layer foil, while providing at least one solid layer through which a fluid will not pass, at least in one direction.

Serial No.: 10/715,430.

Date: 11/19/2003.

19. Title: A method, and a compound for facilitating it, that enchances night vision by dispersing a luminescent to provide low-intensity area illumination. Luminescents may include naturally occurring bioluminescents (visible spectrum) or man-made, preferably non-toxic, chemical-based luminescents (also termed chemiluminescents), the latter available for use in either the visible or IR spectrum. It may be applied locally to a surface or remotely by means of a delivery system. Preferably, select luminescents are dispersed as an aerosal to contact targeted surfaces. These luminescents may be used in spaces otherwise difficult to image with night vision equipment. Specifically provided is a method for viewing a target under low ambient light conditions comprising dispersing a luminescent material on surfaces in a dark space to provide a low-level, spatially broad, source of supplemental scene illumination, and viewing the target with image enhancing devices that are otherwise marginally useful without the presence of the luminescent material.

Serial No.: 11/086,311.

Date: 03/23/2005.

20. Title: An “implant and forget” device for interacting with biota after a pre-established time period. Preferably, the biota are fauna and more particularly fish. In select embodiments, the device comprises packaging enclosing means for timing interaction via opening the packaging. In select embodiments of the present invention, the device is a sealed capsule inserted in fish. Embodiments of the present invention are implanted in triploid grass carp (Ctenopharyngodon idella) to facilitate control of aquatic weeds in bodies of water. When the carp have been in the water for a pre-established approximate period of time, toxins in the device are dispensed via long-term bioerosion of the sealed opening in the packaging. Otherwise, the carp may destroy all vegetation and harm the aquatic environment for other aquatic life. Several alternative bioerodible seal configurations are provided as embodiments.

Serial No.: 10/179,541.

Date: 07/13/2005.

Richard L. Frenette,
Counsel.

[FR Doc. 05-20901 Filed 10-18-05; 8:45 am]

BILLING CODE 3710-92-M